DEPARTMENT OF HEALTH AND HUMAN SERVICES

Office of the Secretary

PHS Policy for Instruction in the Responsibile Conduct of Research; Extension of Comment Period

AGENCY: Office of the Secretary, HHS.

ACTION: Extension of comment period on “Draft PHS Policy for instruction in the responsible conduct of research.”

SUMMARY: The Office of Research Integrity (ORI) in collaboration with the Agency Research Integrity Liaison Officers for each of the PHS Operating Divisions, announced on July 21, 2000, (65 Fed. Reg. 45381) the availability for public comment of a new Draft PHS Policy for Instruction in the Responsible Conduct of Research for extramural institutions receiving PHS funds for research or research training. This comment period is being extended until September 21, 2000.

Institutions and individuals interested in commenting on the proposed policy may obtain it on the ORI web site at <http://ori.dhhs.gov> by clicking on “What's New” or by contacting ORI. To be considered, all comments must be received by ORI at the address below or by E-mail to jegan@osophs.dhhs.gov no later than September 21, 2000.

FOR FURTHER INFORMATION CONTACT: Chris B. Pascal, J.D., Acting Director, Office of Research Integrity, Rockwall II, Suite 700, 5515 Security Lane, Rockville, MD 20852, 301-443-3400.

Chris B. Pascal, J.D.,
Acting Director, Office of Research Integrity.

[FR Doc. 00-20617 Filed 8-14-00; 8:45 am]

BILLING CODE 4160-17-P